DEPARTMENT OF STATE

[Public Notice 6738]

Notice of Issuance of a Presidential Permit for the Proposed Enbridge Energy Alberta Clipper Pipeline Project

August 26, 2009.

AGENCY: Department of State.

ACTION: Notice of Issuance of a Presidential Permit for the Proposed Enbridge Energy Alberta Clipper Pipeline Project.

SUMMARY: This notice announces that on August 20, 2009, the Department of State issued a Presidential Permit to Enbridge Energy, Limited Partnership (“Enbridge”) authorizing it to construct, connect, operate, and maintain facilities at the border of the United States and Canada for the transport of crude oil between the United States and Canada across the international boundary.

On May 15, 2007, Enbridge submitted an application to the U.S. Department of State (DOS) for construction, connection, operation, and maintenance of an oil pipeline and associated facilities at the U.S.-Canada border to enable Enbridge to import heavy crude oil from Canada (the Alberta Clipper Project).

Executive Order 13337 of April 30, 2004, as amended, delegates to the Secretary of State the President's authority to receive applications for permits for the construction, connection, operation, or maintenance of facilities, including pipelines, for the exportation or importation of petroleum, petroleum products, coal, or other fuels at the border of the United States and to issue or deny such Presidential Permits upon a national interest determination. The functions assigned to the Secretary have been further delegated within the Department of State to, inter alia, the Deputy Secretary of State.

Consistent with the National Environmental Policy Act of 1969 (“NEPA”), 42 U.S.C. 4321-4370f, the Council of Environmental Quality Regulations for Implementing the Procedural Provisions of NEPA, 40 CFR parts 1500-1508, and the Department's regulations for the implementation of NEPA, 22 CFR part 161, an Environmental Impact Statement (EIS) on potential issuance of a Presidential Permit for the construction, connection, operation, and maintenance of the pipeline was prepared by Entrix, Inc., a contractor selected by the Department of State.

The Department of State published in the Federal Register a Notification of Receipt of the Enbridge Application for a permit on May 25, 2007 (72 FR 29360). That notification solicited public comment on the application for a 30-day period. Thereafter, the Department published in the Federal Register a Notification of Intent to Prepare an Environmental Impact Statement on March 31, 2008 (73 FR 16920). The Department's Notice of Availability of the Draft EIS and request for public comment was published in the Federal Register on December 5, 2008 (73 FR 74221), seeking comments by January 30, 2009. The Department received 850 public comments in response to this notice and took them into account in making its determination on the Enbridge application.

As required by Executive Order 13337, the Enbridge pipeline application and a Draft Environmental Impact Statement were transmitted to Federal agencies for their review and comment on December 5, 2008. The Department of State received no objections from Federal agencies regarding the issuance of a permit. The Department published a notice of the availability of the Final Environmental Impact Statement in the Federal Register on June 8, 2009 (74 FR 27229).

Consistent with its authority under Executive Order 13337, the Department reviewed all of the available information and documentation, including comments submitted by Federal and State agencies and the public. On August 3, 2009, the Secretary's Delegate, Deputy Secretary James B. Steinberg, signed the Record of Decision and National Interest Determination, which states that issuance of the Presidential Permit for the Alberta Clipper Pipeline Project would serve the national interest.

Executive Order 13337 requires that Secretaries or Heads of certain agencies be notified of the Department's proposed determination concerning issuance of the Presidential Permit. Any agency required to be consulted under section 1(g) of the Order that disagrees with the proposed determination may notify the Secretary of State within 15 days of being notified that it disagrees with the determination and request that the Secretary refer the application to the President. On August 4, 2009, as required under section 1(g) of the Executive Order, the Department notified all agencies of its intent to issue the Permit. The Department received no objections from notified agencies.

On August 3, 2009, Deputy Secretary of State James B. Steinberg, signed the Presidential Permit, and on August 20, 2009, the Department issued the Permit to Enbridge.

FOR FURTHER INFORMATION CONTACT: The Presidential Permit, the Record of Decision and National Interest Determination, Enbridge's application for a Presidential Permit, including associated maps and drawings, the Final EIS and other project information is available for viewing and download at the project Web site: http://www.albertaclipper.state.gov. For information on the proposed project contact J. Brian Duggan, EEB/ESC Room 4843, U.S. Department of State, Washington, DC 20520, or by telephone (202) 647-1291, or by fax at (202) 647-8758.

Issued in Washington, DC on August 20, 2009.
Stephen J. Gallogly,
Director, Office of International Energy and Commodity Policy, Department of State.

[FR Doc. E9-20598 Filed 8-25-09; 8:45 am]

BILLING CODE 4710-07-P